DEPARTMENT OF JUSTICE

Notice of Lodging of Settlement Agreement Under the Comprehensive Environmental Response, Compensation, and Liability Act

Notice is hereby given that on July 26, 2007, a proposed settlement agreement in In re Marcal Paper Mills, Inc. Case No. 06-21886(MS), was lodged with the United States Bankruptcy Court for the District of New Jersey.

The proposed settlement agreement resolves claims asserted by the United States, on behalf of the United States Environmental Protection Agency (“EPA”), the United States Department of Interior (“DOI”), and the National Oceanic and Atmospheric Administration of the United States Department of Commerce (“NOAA”), against the debtor Marcal Paper Mills, Inc., under the Comprehensive Environmental Response, Compensation, and Liability Act (“CERCLA”), 42 USC 9601 et seq. The claims were contained in a Proof of Claim filed with the Court on June 14, 2007 and sought to recover response costs incurred and to be incurred and natural resource damages at the Diamond Alkali Superfund Site in New Jersey. The proposed settlement agreement stipulates that the United States' unsecured claim shall be treated as an allowed claim in the amount of $3,000,000.

The Department of Justice will receive for a period of thirty (30) days from the date of this publication comments relating to the proposed settlement agreement. Comments should be addressed to the Assistant Attorney General, Environment and Natural Resources Division, and either e-mailed to pubcomment-ees.enrd@usdoj.gov or mailed to P.O. Box 7611, U.S. Department of Justice, Washington, DC 20044-7611, and should refer to In re Marcal Paper Mills, Inc. D.J. Ref. 90-11-3-07683/5.

During the public comment period, the Settlement Agreement may also be examined on the following Department of Justice Web site, http://www.usdoj.gov/enrd/Consent_Decrees.html. A copy of the proposed Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation no. (202) 514-1547. In requesting a copy from the Consent Decree Library, please enclose a check in the amount of $2.50 (25 cents per page reproduction cost) payable to the “U.S. Treasury” or, if by e-mail or fax, forward a check in that amount to the Consent Decree Library at the stated address.

Ronald G. Gluck
Assistant Section Chief, Environmental Enforcement Section, Environment and Natural Resources Division, U.S. Department of Justice.

[FR Doc. 07-3865 Filed 8-8-07; 8:45 am]

BILLING CODE 4410-15-M